DEPARTMENT OF THE TREASURY

Submission for OMB Review; Comment Request

July 5, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 12, 2002, to be assured of consideration.

Internal Revenue Service (IRS)

OMB Number: 1545-1139.

Regulation Project Number: PS-264-82 Final.

Type of Review: Extension.

Title: Adjustments to Basis of Stock and Indebtedness to Shareholders of S Corporations and Treatment of Distribution by S Corporations to Shareholders.

Description: The regulations provide the procedures and the statements to be filed by S corporations for making the election provided under section 1368, and by shareholders who choose to reorder items that decrease their basis. Statements required to be filled will be used to verify that taxpayers are complying with the requirements imposed by Congress.

Respondents: Business or other for-profit, Individuals or households.

Estimated Number of Respondents: 2,000.

Estimated Burden Hours Per Respondent: 6 minutes.

Frequency of Response: Annually.

Estimated Total Reporting Burden: 200 hours.

OMB Number: 1545-1491.

Regulation Project Number: REG-209798-95 Final.

Type of Review: Extension.

Title: Amortizable Bond Premium.

Description: The information requested is necessary for the Service to determine whether a holder of a bond had elected to amortize bond premium and to determine whether an issuer or a holder has changed its method of accounting for premium.

Respondents: Business or other for-profit, Individuals or households.

Estimated Number of Respondents: 100,000.

Estimated Burden Hours Per Respondent: 30 minutes.

Frequency of Response: Other (once).

Estimated Total Reporting Burden: 50,000 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports, Management Officer.

[FR Doc. 02-17493 Filed 7-11-02; 8:45 am]

BILLING CODE 4830-01-P